DEPARTMENT OF DEFENSE

Department of the Air Force

Record of Decision for the B-21 Main Operating Base 1 Beddown at Dyess AFB, Texas or Ellsworth AFB, South Dakota Environmental Impact Statement

AGENCY: Department of the Air Force, Department of Defense.

ACTION: Notice of availability of Record of Decision.

SUMMARY: On June 3, 2021, the Department of the Air Force (DAF) signed the Record of Decision (ROD) for the Environmental Impact Statement B-21 Main Operating Base (MOB) 1 Beddown at Dyess AFB, Texas or Ellsworth AFB, South Dakota.

ADDRESSES: Ms. Julianne Turko, AFCEC/CZN, 2261 Hughes Avenue, Suite 155, JBSA-Lackland Air Force Base, Texas 78236-9853, (210) 295-3777, julianne.turko.1@us.af.mil.

SUPPLEMENTARY INFORMATION: The DAF will beddown the B-21 MOB 1 under the USAF Global Strike Command at Ellsworth AFB, South Dakota. The B-21 MOB 1 beddown will include construction, demolition, and renovation of various facilities and infrastructure projects on Ellsworth AFB, including the construction of a Weapons Generation Facility (WGF) at the South WGF Site location. The DAF decision documented in the ROD was based on matters discussed in the Final Environmental Impact Statement, inputs from Native American Tribes, members of the public, and regulatory agencies, and other relevant factors. The Final Environmental Impact Statement was made available to the public on March 19, 2021 through a Notice of Availability in the Federal Register (Volume 86, Number 52, pages 14908-14909) with a waiting period that ended on April 19, 2021.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Acting Air Force Federal Register Liaison Officer.

[FR Doc. 2021-12724 Filed 6-16-21; 8:45 am]

BILLING CODE 5001-10-P